FEDERAL COMMUNICATIONS COMMISSION

47 CFR Part 73

[DA 00-1108; MM Docket Nos. 99-140, 99-146; RM-9490, RM-9723, RM-9724, RM-9725]

Radio Broadcasting Services; North Tunica and Friars Point, Mississippi, Kennett, Missouri, Munford, Tennessee, and Marianna, Arkansas

AGENCY: Federal Communications Commission.

ACTION: Final rule.

SUMMARY: The Allocations Branch combines two proceedings, MM Docket Nos. 99-140 and 99-146. This document reallots Channel 255C from Kennett, Missouri to Munford, Tennessee, as the community's first local aural transmission service as requested by Legend Broadcasting in a counterproposal in MM Docket No. 99-140. It also allots Channel 254A at Friars Point, Mississippi, requested in separate counterproposals filed by Legend and Delta Radio Inc. in MM Docket No. 99-146. It also grants Fred Flinn's request to dismiss his petition for rulemaking for the allotment of Channel 254A at North Tunica, Mississippi in MM Docket No. 99-146. Pursuant to agreements between Legend Broadcasting and Ken Reynolds d/b/a Bear Creek Radio, and Olvie Sisk, this document dismisses Bear Creek Radio's counterproposal filed in MM Docket No. 99-140 requesting the allotment of Channel 254A at Marianna, Arkansas and Olvie Sisk's comments in MM Docket No. 99-146 in support of the allotment of Channel 254A at North Tunica, Mississippi. See Supplementary Information.

DATES: Effective July 3, 2000.

FOR FURTHER INFORMATION CONTACT: Victoria M. McCauley, Mass Media Bureau, (202) 418-2180.

SUPPLEMENTARY INFORMATION: This is a synopsis of the Commission's Report and Order, MM Docket Nos. 99-140 and 99-146, adopted May 10, 2000, and released May 19, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

Channel 255C can be reallotted to Munford, Tennessee, at coordinates 35-46-53 and 89-36-46, at a site 41.2 kilometers (25.6 miles) northeast of the community, and Channel 254A can be allotted to Friars Point, Mississippi, at coordinates 34-24-09 and 90-38-51 at a site 4.2 kilometers (2.6 miles) north of the community, in compliance with the Commission's minimum distance separation requirements, with respect to domestic allotments. A filing window for Channels 254A at Friars Point will not be opened at this time. Instead, the issue of opening a filing window for this channel will be addressed by the Commission in a subsequent order.

List of Subjects in 47 CFR Part 73

Radio broadcasting.

Part 73 of title 47 of the Code of Federal Regulations is amended as follows:

47 CFR PART 73—[AMENDED]

1. The authority citation for part 73 continues to read as follows:

Authority: 47 U.S.C. 154, 303, 334 and 336.

§ 73.202 [Amended]

2. Section 73.202(b), the Table of FM Allotments under Mississippi is amended by adding Friars Point, Channel 254A.

3. Section 73.202(b), the Table of FM Allotments under Missouri, is amended by removing Channel 255C at Kennett.

4. Section 73.202(b), the Table of FM Allotments under Tennessee, is amended by adding Munford, Channel 255C.

Federal Communications Commission.
John A. Karousos,
Chief, Allocations Branch, Policy and Rules Division, Mass Media Bureau.

[FR Doc. 00-13700 Filed 5-31-00; 8:45 am]

BILLING CODE 6712-01-U